DEPARTMENT OF COMMERCE

International Trade Administration

[A-570-835]

Furfuryl Alcohol From the People's Republic of China: Final Results of Expedited Fifth Sunset Review of Antidumping Duty Order

AGENCY: Enforcement and Compliance, International Trade Administration, Department of Commerce.

SUMMARY: As a result of this sunset review, the U.S. Department of Commerce (Commerce) finds that revocation of the antidumping duty (AD) order on furfuryl alcohol from the People's Republic of China (China) would be likely to lead to continuation or recurrence of dumping at the dumping margins identified in the “Final Results of Review” section of this notice.

DATES: Applicable November 2, 2022.

FOR FURTHER INFORMATION CONTACT: Matthew Palmer, AD/CVD Operations, Office III, Enforcement and Compliance, International Trade Administration, U.S. Department of Commerce, 1401 Constitution Avenue NW, Washington, DC 20230; telephone: (202) 482-1678.

SUPPLEMENTARY INFORMATION:

Background

On July 1, 2022, Commerce published the notice of initiation of the fifth sunset review of the Order,¹ pursuant to section 751(c) of the Tariff Act of 1930, as amended (the Act).² On July 11, 2022, Penn A Kem, LLC (PennAKem), a domestic interested party (formerly known as Penn Specialty Chemicals, Inc. and Great Lakes Chemical, the former petitioner in the underlying investigation), timely notified Commerce of its intent to participate within the deadline specified in 19 CFR 351.218(d)(1)(i).³ On August 1, 2022, Commerce received a complete substantive response from PennAKem within the 30-day period specified in 19 CFR 351.218(d)(3)(i).⁴ Commerce received no substantive responses from respondent interested parties. Based on the notice of intent to participate and adequate response filed by PennAKem, and the lack of response from any respondent interested party, Commerce conducted an expedited sunset review of the Order, pursuant to section 751(c)(3)(B) of the Act and 19 CFR 351.218(e)(1)(ii)(C)(2).

¹ See Notice of Antidumping Duty Order: Furfuryl Alcohol from the People's Republic of China (PRC), 60 FR 32302 (June 21, 1995) (Order).

² See Initiation of Five-Year (Sunset) Reviews, 87 FR 39459 (July 1, 2022).

³ See PennAKem's Letter, “Sunset Review (5th Review) of the Antidumping Duty Order on Furfuryl Alcohol from the People's Republic of China: Domestic Interested Party Notification of Intent to Participate,” dated July 11, 2022.

⁴ See PennAKem's Letter, “Fifth Sunset Review of the Antidumping Duty Order on Furfuryl Alcohol from the People's Republic of China; Domestic Interested Party Substantive Response to the Notice of Initiation,” dated August 1, 2022.

Scope of the Order

The merchandise covered by this order is furfuryl alcohol (C4H3OCH2OH). Furfuryl alcohol is a primary alcohol, and is colorless or pale yellow in appearance. It is used in the manufacture of resins and as a wetting agent and solvent for coating resins, nitrocellulose, cellulose acetate, and other soluble dyes. The product subject to this order is classifiable under subheadings 2932.13.00 and 3824.99.9397 of the Harmonized Tariff Schedule of the United States (HTSUS).

Although the HTSUS subheading is provided for convenience and customs purposes, our written description of the scope is dispositive.

Analysis of Comments Received

A complete discussion of all issues raised in this sunset review is provided in the accompanying Issues and Decision Memorandum.⁵ The issues discussed in the Issues and Decision Memorandum include the likelihood of continuation or recurrence of dumping and the magnitude of the margins of dumping likely to prevail if the Order were revoked. The Issues and Decision Memorandum is a public document and is on file electronically via Enforcement and Compliance's Antidumping and Countervailing Duty Centralized Electronic Service System (ACCESS). ACCESS is available to registered users at https://access.trade.gov. A complete version of the Issues and Decision Memorandum can be accessed at https://access.trade.gov/public/FRNotices/ListLayout.aspx.

⁵ See Memorandum, “Issues and Decision Memorandum for the Final Results of Expedited Fifth Sunset Review of the Antidumping Duty Order on Furfuryl Alcohol from the People's Republic of China,” dated concurrently, and hereby adopted by, with this notice.

Final Results of the Sunset Review

Pursuant to sections 751(c)(1) and 752(c)(1) and (3) of the Act, Commerce determines that revocation of the antidumping duty order on furfuryl alcohol from China would be likely to lead to a continuation or recurrence of dumping, and that the magnitude of the dumping margins likely to prevail would be up to 50.43 percent.

Notification Regarding Administrative Protective Order

This notice also serves as the only reminder to parties subject to administrative protective order (APO) of their responsibility concerning the return or destruction of proprietary information disclosed under APO in accordance with 19 CFR 351.305(a). Timely notification of the return or destruction of APO materials or conversion to judicial protective order is hereby requested. Failure to comply with the regulations and terms of an APO is a violation which is subject to sanction.

Notification to Interested Parties

We are issuing and publishing the results and notice in accordance with sections 751(c), 752(c), and 777(i)(1) of the Act, and 19 CFR 351.221(c)(5)(ii).

Dated: October 27, 2022.
Lisa W. Wang,
Assistant Secretary for Enforcement and Compliance.

[FR Doc. 2022-23826 Filed 11-1-22; 8:45 am]

BILLING CODE 3510-DS-P